DEPARTMENT OF THE INTERIOR

Bureau of Ocean Energy Management

[Docket No. BOEM-2017-0013; MMAA104000]

Cook Inlet Planning Area Outer Continental Shelf Oil and Gas Lease Sale 244

AGENCY: Bureau of Ocean Energy Management, Interior.

ACTION: Final Notice of Sale.

SUMMARY: On Wednesday, June 21, 2017, the Bureau of Ocean Energy Management (BOEM) will open and publicly announce bids received for blocks offered in the Cook Inlet Planning Area Outer Continental Shelf (OCS) Oil and Gas Lease Sale 244 (Cook Inlet Sale 244), in accordance with provisions of the Outer Continental Shelf Lands Act (OCSLA) and the implementing regulations issued thereto. The Cook Inlet Sale 244 Final Notice of Sale (NOS) package contains information essential to potential bidders.

DATES: Public opening and reading of the bids for Cook Inlet Lease Sale 244 will begin at 10 a.m. on Wednesday, June 21, 2017, in the Denali Room at the Bureau of Land Management, Alaska State Office, Anchorage Federal Office Building, 222 West Seventh Avenue, Anchorage, Alaska. The venue will not be open to the general public, media, or industry. Instead, the bid opening and reading will be available for public viewing on BOEM's Web site via video live-streaming at www.boem.gov. The use of live-streaming will provide greater access to a wider national and international audience. BOEM will also post the results on its Web site after bid opening and reading are completed. All times referred to in this document are Alaska time, unless otherwise specified.

Bid Submission Deadline: BOEM must receive all sealed bids during normal business hours, between 8:00 a.m. and 4:00 p.m., through June 19, 2017, and from 8:00 a.m. to the bid submission deadline of 10:00 a.m. on Tuesday, June 20, 2017, the day before the lease sale. For more information on bid submission, see Section VII, “Bidding Instructions,” of this document.

ADDRESSES: Interested parties, upon request, may obtain a compact disk (CD-ROM) containing the Final Notice of Sale (NOS) package by contacting the BOEM Alaska OCS Region at:

Bureau of Ocean Energy Management, 3801 Centerpoint Drive, Suite 500, Anchorage, Alaska 99503, (907) 334-5200 or (800) 764-2627.

The Final NOS package can also be downloaded from the BOEM Web site at http://www.boem.gov/Sale-244.

FOR FURTHER INFORMATION CONTACT: David Diamond, Chief, Leasing Division, (703) 787-1776, david.diamond@boem.gov.

SUPPLEMENTARY INFORMATION:

Table of Contents

This Final NOS includes the following sections:

I. Lease Sale Area

II. Statutes and Regulations

III. Lease Terms and Economic Conditions

IV. Lease Stipulations

V. Information to Lessees

VI. Maps

VII. Bidding Instructions

VIII. Bidding Rules and Restrictions

IX. Forms

X. The Lease Sale

XI. Delay of Sale

Lease Sale Area

BOEM will offer for bid in this lease sale all unleased whole blocks and partial blocks in the area of Cook Inlet identified on the map included as part of this notice, “Final Notice of Sale, Cook Inlet Planning Area, OCS Oil Gas Lease Sale 244.” The BOEM Official Protraction Diagrams (OPDs) and Supplemental Official OCS Block Diagrams are available online at http://www.boem.gov/Oil-and-Gas-Energy-Program/Mapping-and-Data/Alaska.aspx.

All of these blocks are shown on the following OPDs:

• Iliamna (OPD NO 05-01)

• Seldovia (OPD NO 05-02)

• Kenai (OPD NP 05-08)

The available Federal area of each whole and partial block in this lease sale are shown in the document “List of Blocks Available for Leasing” included in the Final NOS Package. Some of these blocks, known as “partial blocks,” may be transected by administrative lines, such as the Federal/State jurisdictional line. A bid on a block must include all of the available Federal area of that block.

II. Statutes and Regulations

Each lease is issued pursuant to the Outer Continental Shelf Lands Act (OCSLA, 43 U.S.C. 1331 et seq.), and is subject to OCSLA, its implementing regulations pursuant thereto (30 CFR part 556), and other applicable statutes and regulations in existence upon the effective date of the lease, as well as those applicable statutes enacted and regulations promulgated thereafter, except to the extent that the after-enacted statutes and regulations explicitly conflict with an express provision of the lease. Each lease is subject to amendments to the applicable statutes and regulations, including, but not limited to, OCSLA, that do not explicitly conflict with an express provision of the lease. The lessee expressly bears the risk that such new amended statutes and regulations (i.e., those that do not explicitly conflict with an express provision of the lease) may increase or decrease the lessee's obligations under the lease.

III. Lease Terms and Economic Conditions

Lease Terms

OCS Lease Form

BOEM will use Form BOEM-2005 (February 2017) to convey leases issued as a result of this sale. This lease form may be viewed on the BOEM Web site at http://www.boem.gov/BOEM-2005/. The lease form will be amended to conform with the specific terms, conditions, and stipulations applicable to each individual lease. The terms, conditions, and stipulations applicable to this sale are set forth below.

Primary Term: The primary term will be 10 years.

Economic Conditions

Minimum Bonus Bid Amounts: $25 per hectare or fraction thereof for all blocks. BOEM will not accept a bonus bid unless it provides for a cash bonus in the amount equal to, or exceeding, the specified minimum bonus bid of $25 per hectare or fraction thereof for all blocks.

Rental Rates: An annual rental rate for all blocks of $13 per hectare or fraction thereof, until the start of year eight of the primary term or a discovery of oil and gas, whichever occurs first; then at an annual rate of $20 per hectare or fraction thereof.

Royalty Rates: 12.5%.

Minimum Royalty: $20 per hectare or fraction thereof per year. No royalty relief will be offered as part of any lease that may be issued as a result of Cook Inlet Sale 244.

IV. Lease Stipulations

One or more of the following stipulations may be applied to leases issued as a result of this lease sale. The detailed text of these stipulations is contained in the “Lease Stipulations” section of the Final NOS Package. Note that the Proposed NOS included Stipulation No. 10, “Prohibition of Drilling Discharges.” As BOEM has decided not to adopt Stipulation No. 10, it has been removed from the Final NOS, and therefore it will not be applied to any leases issued as a result of this lease sale.

(1) Protection of Fisheries

(2) Protection of Biological Resources

(3) Orientation Program

(4) Transportation of Hydrocarbons

(5) Protection of Beluga Whale Critical Habitat

(6) Protection of Beluga Whale Nearshore Feeding Areas

(7) Protection of Beluga Whales

(8) Protection of Northern Sea Otter Critical Habitat

(9) Protection of Gillnet Fishery

V. Information to Lessees

Information to Lessees (ITLs) provides detailed information on certain issues pertaining to specific oil and gas lease sales. The detailed text of the ITLs for this sale is contained in the “Information to Lessees” section of the Final NOS Package.

(1) Bird and Marine Mammal Protection

(2) Endangered and Threatened Species Protection

(3) Seismic Surveys: Environmental and Regulatory Review and Coordination Requirements

(4) Archaeological and Geological Hazards Reports and Surveys

(5) Sensitive Areas to be Considered in Oil Spill Response Plans

(6) Discharge Restrictions and Prohibitions

(7) Trash and Debris Awareness and Elimination

(8) Air Quality Regulations and Standards

(9) Navigation Safety

(10) Notice of Arrival on the Outer Continental Shelf

(11) Bidder/Lessee Notice of Obligations Related to Criminal/Civil Charges and Offenses, Suspension, or Debarment; Disqualification Due to a Conviction under the Clean Air Act or the Clean Water Act

(12) Oil Spill Response Preparedness

(13) Offshore Pipelines

(14) Bureau of Safety and Environmental Enforcement (BSEE) Inspection and Enforcement of Certain U.S. Coast Guard (USCG) Regulations

VI. Maps

Maps pertaining to this lease sale are available on the BOEM Web site at http://www.boem.gov/Sale-244/. The following maps also are included in the Final NOS Package:

(1) “Final Notice of Sale, Cook Inlet Planning Area, OCS Oil Gas Lease Sale 244, June 21, 2017,” which shows the blocks to be made available for leasing; and

(2) “Final Notice of Sale, Cook Inlet Planning Area, Lease Sale 244, June 21, 2017, Stipulation Blocks,” which shows the stipulations and the blocks to which they will apply.

VII. Bidding Instructions

Bids may be submitted in person or by mail at the address below in the “Mailed Bids” section. Bidders submitting their bid(s) in person are advised to contact Ms. Patricia LaFramboise at (907) 334-5200 to schedule a time to submit the bid(s) and to provide the names of the company representative(s) who will be submitting the bid(s).

Bidders are further advised that visitors seeking access to almost all Federal facilities, including the BOEM Alaska OCS Region Office, using their state-issued driver's licenses or identification cards must present proper identification issued by REAL ID compliant states or a state that has received an extension. See the Department of Homeland Security Web site https://www.dhs.gov/real-id-public-faqs for further information on identification requirements. BOEM will not admit you if you do not have the proper identification. If you have any questions as to forms of identification that will be accepted, please ask when contacting BOEM to schedule a time to submit bids.

Instructions on how to submit a bid, how to secure payment of an advanced bonus bid deposit (if applicable), and what information must be included with the bid are as follows:

Bid Form

For each block bid upon, a separate bid must be submitted in a sealed envelope (as described below) and must include the following:

• Total amount of the bid in whole dollars only;

• Sale number;

• Sale date;

• Each bidder's exact name;

• Each bidder's proportionate interest, stated as a percentage, using a maximum of five decimal places (e.g., 33.33333%);

• Typed name and title, and signature of each bidder's authorized officer;

• Each bidder's qualification number;

• OPD name and number;

• Block number; and

• Statement acknowledging that the bidder(s) understands that this bid legally binds the bidder(s) to comply with all applicable regulations, including payment of one-fifth of the bonus bid amount on all apparent high bids.

The information required on the bid(s) is specified in the document “Bid Form” contained in the Final NOS Package. A blank bid form is provided therein for convenience and may be copied and completed with the necessary information described above.

Bid Envelope

Each bid must be submitted in a separate sealed envelope labelled as follows:

• “Sealed Bid for Oil and Gas Lease Sale 244, not to be opened until 10 a.m., Wednesday, June 21, 2017”;

• OPD name and number;

• Block number for the block bid upon; and

• The exact name and qualification number of the submitting bidder only.

The Final NOS Package includes a sample bid envelope for reference.

Mailed Bids

If bids are mailed, please address the envelope containing the sealed bid envelope(s) as follows:

Attention: Chief, Leasing Section, BOEM Alaska OCS Region, 3801 Centerpoint Dr., Ste. 500, Anchorage, AK 99503-5823.

Contains Sealed Bids for Cook Inlet Oil and Gas Lease Sale 244.

Please deliver to Ms. Patricia LaFramboise, 5th Floor, Immediately.

Please Note: Bidders who are mailing bid(s) are advised to call Ms. Patricia LaFramboise, Chief, Leasing Section at (907) 334-5200, immediately after putting their bid(s) in the mail. If BOEM receives bids later than the Bid Submission deadline, the BOEM Alaska OCS Regional Director (RD) will return those bids unopened to bidders. Please see “Section XI. Delay of Sale” regarding BOEM's discretion to extend the Bid Submission Deadline in the case of an unexpected event (e.g., earthquake or travel restrictions) and how bidders can obtain more information on such extensions.

Advance Bonus Bid Deposit

Bidders that are not currently an OCS oil and gas lease record title holder or designated operator, or those that have ever defaulted on a one-fifth bonus bid deposit, by Electronic Funds Transfer (EFT) or otherwise, must guarantee (secure) the payment of the one-fifth bonus bid deposit prior to bid submission using one of the following four methods:

• Provide a third-party guarantee;

• Amend an area-wide development bond via bond rider;

• Provide a letter of credit; or

• Provide a lump sum payment in advance via EFT.

For more information on EFT procedures, see Section X of this document, entitled, “The Lease Sale.”

Affirmative Action

Prior to bidding, each bidder should file Equal Opportunity Affirmative Action Representation Form BOEM-2032 (October 2011, http://www.boem.gov/BOEM-2032/) and Equal Opportunity Compliance Report Certification Form BOEM-2033 (October 2011, http://www.boem.gov/BOEM-2033/) with the Alaska OCS Region Leasing Section. This certification is required by 41 CFR part 60 and Executive Order No. 11246, issued on September 24, 1965, as amended by Executive Order No. 11375, issued on October 13, 1967, and by Executive Order 13672, issued on June 21, 2014. Both forms must be on file for the bidder(s) in the Alaska OCS Region Office prior to the execution of any lease contract.

Geophysical Data and Information Statement (GDIS)

The GDIS is composed of three parts:

(1) The “Statement” page includes the company representatives' information and lists of blocks bid on that used proprietary data and those blocks bid on that did not use proprietary data;

(2) the “Table” listing the required data about each proprietary survey used (see below); and

(3) the “Maps” being the live trace maps for each survey that are identified in the GDIS statement and table.

Every bidder submitting a bid on a block in Cook Inlet Sale 244, or participating as a joint bidder in such a bid, must submit at the time of bid submission all three parts of the GDIS. A bidder must submit the GDIS, even if a joint bidder or bidders on a specific block also have submitted a GDIS. Any speculative data that has been reprocessed externally or “in-house” is considered proprietary due to the proprietary processing and is no longer considered to be speculative.

The GDIS must be submitted in a separate and sealed envelope, and identify all proprietary data; reprocessed speculative data, and/or any Controlled Source Electromagnetic surveys, Amplitude Versus Offset (AVO), Gravity, or Magnetic data; or other information used as part of the decision to bid or participate in a bid on the block. The bidder and joint bidder must also include a live trace map for 3 dimensional seismic volumes and for 2 dimensional seismic, include the line segment, including the beginning and ending shot point locations and the individual line names (e.g., .pdf and ArcGIS shape file) for each proprietary survey that they identify in the GDIS illustrating the actual areal extent of the proprietary geophysical data in the survey (see the “Example of Preferred Format” in the Final NOS Package for additional information). The shape file should not include cultural information; only the live trace map of the survey itself.

The GDIS statement must include the name, phone number, and full address of a contact person and an alternate who are both knowledgeable about the information and data listed and who are available for 30 days after the sale date. The GDIS statement also must include entries for all blocks bid upon that did not use proprietary or reprocessed pre- or post-stack geophysical data and information as part of the decision to bid or to participate as a joint bidder in the bid. The GDIS statement must be submitted, even if no proprietary geophysical data and information were used in bid preparation for the block.

The GDIS table should have columns that clearly state:

• The sale number;

• The bidder company's name;

• The block area and block number bid on;

• The owner of the original data set (i.e., who initially acquired the data);

• The industry's original name of the survey (e.g., E Octopus);

• The BOEM permit number for the survey;

• Whether the data set is a fast track version;

• Whether the data is speculative or proprietary;

• The data type (e.g., 2-D, 3-D, or 4-D; pre-stack or post-stack; and time or depth);

• The migration algorithm (e.g., Kirchhoff Migration, Wave Equation Migration, Reverse Migration, Reverse Time Migration) of the data and areal extent of bidder survey (i.e., number of line miles for 2-D or number of blocks for 3-D).

Also, provide the computer storage size, to the nearest gigabyte, of each seismic data and velocity volume used to evaluate the lease block in question. This information will be used in estimating the reproduction costs for each data set, if applicable. The availability of reimbursement of production costs will be determined consistent with 30 CFR 551.13. Also indicate who reprocessed the data (e.g., external company name or “in-house”) and when the date of final reprocessing was completed (month and year). If the data was sent to BOEM for bidding in a previous lease sale, list the date the data was processed (month and year) and indicate if AVO data was used in the evaluation. BOEM reserves the right to query about alternate data sets, to quality check, and to compare the listed and alternative data sets to determine which data set most closely meets the needs of the fair market value determination process. An example of the preferred format of the table is included in the Final NOS Package, and a blank digital version of the preferred table may be accessed on the Lease Sale 244 sale Web page at http://www.boem.gov/sale-244/.

The GDIS maps are live trace maps (in .pdf and ArcGIS shape files) that should be submitted for each proprietary survey that is identified in the GDIS table. They should illustrate the actual areal extent of the proprietary geophysical data in the survey (see the “Example of Preferred Format” in the Final NOS Package for additional information). As previously stated, the shape file should not include cultural information; only the live trace map of the survey itself.

Pursuant to 30 CFR 551.12 and 30 CFR 556.501, as a condition of the lease sale, the BOEM Alaska OCS RD requests that all bidders and joint bidders submit the proprietary data identified on their GDIS within 30 days after the lease sale (unless they are notified after the lease sale that BOEM has withdrawn the request). This request only pertains to proprietary data that is not commercially available. Commercially available data is not required to be submitted to BOEM, and reimbursement will not be provided if such data is submitted by a bidder. The BOEM Alaska OCS RD will notify bidders and joint bidders of any withdrawal of the request, for all or some of the proprietary data identified on the GDIS, within 15 days of the lease sale.

Pursuant to 30 CFR part 551 and as a condition of this lease sale, all bidders required to submit data must ensure that the data is received by BOEM no later than the 30th day following the lease sale or the next business day if the submission deadline falls on a weekend or Federal holiday. The data must be submitted to BOEM at the following address:

Bureau of Ocean Energy Management, Office of Resource Evaluation, 3801 Centerpoint Drive, Ste. 500, Anchorage, AK 99508-5823.

BOEM recommends that bidders mark the submission's external envelope as “Deliver Immediately to Office of Resource Evaluation—Digital Processing.” BOEM also recommends that bidders submit the data in an internal envelope, or otherwise marked, with the following designation: “Proprietary Geophysical Data Submitted Pursuant to Lease Sale 244 and used during <Bidder Name's> evaluation of Block <Block Number>.”

In the event a person supplies any type of data to BOEM, that person must meet the following requirements to qualify for reimbursement:

(1) Persons must be registered with the System for Award Management (SAM), formerly known as the Central Contractor Registration (CCR). Your CCR username will not work in SAM. A new SAM User Account is needed to register or update your entity's records. The Web site for registering is https://www.sam.gov.

(2) Persons must be enrolled in the Department of Treasury's Internet Payment Platform (IPP) for electronic invoicing. The person must enroll in the IPP at https://www.ipp.gov. Access then will be granted to use IPP for submitting requests for payment. When a request for payment is submitted, it must include the assigned Purchase Order Number on the request.

(3) Persons must have a current On-line Representations and Certifications Application at https://www.sam.gov.

Please Note: The GDIS Information Table must be submitted digitally, preferably as an Excel spreadsheet, on a CD, DVD, or any USB external drive (formatted for Windows) along with the seismic data map(s). If bidders have any questions, please contact the BOEM Regional Supervisor, Resource Evaluation at (907) 334-5200.

Bidders should refer to Section X of this document, “The Lease Sale: Acceptance, Rejection, or Return of Bids,” regarding a bidder's failure to comply with the requirements of the Final NOS, including any failure to submit information as required in the Final NOS or Final NOS Package.

Telephone Numbers/Addresses of Bidders

BOEM requests that bidders provide this information in the suggested format prior to, or at the time of, bid submission. The suggested format is included in the Final NOS Package. The form must not be enclosed inside the sealed bid envelope.

Additional Documentation

BOEM may require bidders to submit other documents in accordance with 30 CFR 556.107, 30 CFR 556.401, 30 CFR 556.501, and 30 CFR 556.513.

VIII. Bidding Rules and Restrictions

Restricted Joint Bidders

On April 28, 2017, BOEM published the most recent List of Restricted Joint Bidders in the Federal Register at 82 FR 19750. Potential bidders are advised to refer to the Federal Register, prior to bidding, for the most current List of Restricted Joint Bidders in place at the time of the lease sale. Please refer to joint bidding provisions at 30 CFR 556.511-515.

Authorized Signatures

All signatories executing documents on behalf of bidder(s) must execute the same in conformance with the BOEM qualification records. Bidders are advised that BOEM considers the signed bid to be a legally binding obligation on the part of the bidder(s) to comply with all applicable regulations, including paying the one-fifth bonus bid amount on all high bids. A statement to this effect must be included on each bid form (see the document “Bid Form” contained in the Final NOS Package).

Unlawful Combination or Intimidation

BOEM warns bidders against violation of 18 U.S.C. part 1860, prohibiting unlawful combination or intimidation of bidders.

Bid Withdrawal

Bids may be withdrawn only by written request delivered to BOEM prior to the Bid Submission Deadline. The withdrawal request must be on company letterhead and must contain the bidder's name, its BOEM qualification number, the OPD name/number, and the block number(s) of the bid(s) to be withdrawn. The withdrawal request must be executed in conformance with the BOEM qualification records. Signatories must be authorized to bind their respective legal business entities (e.g., a corporation, partnership, or LLC), and documentation must be on file with BOEM setting forth this authority to act on the business entity's behalf for purposes of bidding and lease execution under OCSLA (e.g., business charter or articles, incumbency certificate, or power of attorney). The name and title of the authorized signatory must be typed under the signature block on the withdrawal request. The BOEM Alaska OCS Region RD, or the RD's designee, will indicate their approval by signing and dating the withdrawal request.

Bid Rounding

Minimum bonus bid calculations, including all rounding, for all blocks are shown in the document entitled, “List of Blocks Available for Leasing,” included in the Final NOS package. The bonus bid amount must be in whole dollars. If the acreage of a block contains a decimal figure, then prior to calculating the minimum bonus bid, BOEM has rounded up to the next whole hectare. The appropriate minimum rate per hectare was then applied to the whole (rounded up) acreage. If this calculation resulted in a fractional dollar amount, the minimum bonus bid was rounded up to the next whole dollar amount. The bonus bid must be greater than or equal to the minimum bonus bid in whole dollars.

IX. Forms

The Final NOS Package includes instructions, samples, and/or the preferred format for the items listed below. BOEM strongly encourages bidders to use these formats. Should bidders use another format, they are responsible for including all the information specified for each item in the Final NOS package.

(1) Bid Form

(2) Sample Completed Bid

(3) Sample Bid Envelope

(4) Sample Bid Mailing Envelope

(5) Telephone Numbers/Addresses of Bidders Form

(6) GDIS Form

(7) GDIS Envelope Form

X. The Lease Sale

Bid Opening and Reading

Sealed bids received in response to the Final NOS will be opened at the place, date, and hour specified under the DATES section of this Final NOS. The venue will not be open to the public. Instead, the bid opening and reading will be available for the public to view on BOEM's Web site at www.boem.gov via live-streaming video. The opening of the bids is for the sole purpose of publicly announcing and recording the bids received. No bids will be accepted or rejected at that time.

Bonus Bid Deposit for Apparent High Bids

Each bidder submitting an apparent high bid must submit a bonus bid deposit to the Office of Natural Resources Revenue (ONRR) equal to one-fifth of the bonus bid amount for each such bid. A copy of the notification of the high bidder's one-fifth bonus bid may be obtained on the BOEM Web site at http://www.boem.gov/Sale-244/ under the heading “Notification of EFT ⅕ Bonus Liability” after 1:00 p.m. on the day of the lease sale. All payments must be deposited electronically into an interest-bearing account in the U.S. Treasury by 11:00 a.m. Eastern Time the day following the bid reading (no exceptions). Account information is provided in the “Instructions for Making Electronic Funds Transfer Bonus Payments” found on the BOEM Web site identified above.

BOEM requires bidders to use EFT procedures for payment of the one-fifth bonus bid deposits for Cook Inlet Sale 244 following detailed instructions contained on the ONRR Payment Information Web page at https://onrr.gov/ReportPay/payments.htm#EPO. Acceptance of a deposit does not constitute and shall not be construed as acceptance of any bid on behalf of the United States.

Withdrawal of Blocks

The United States reserves the right to withdraw any block from this lease sale prior to issuance of a written acceptance of a bid for the block.

Acceptance, Rejection, or Return of Bids

The United States reserves the right to reject any and all bids. No bid will be accepted, and no lease for any block will be awarded to any bidder, unless:

(1) The bidder has complied with all requirements of the Final NOS, including those set forth in documents contained in the Final NOS Package and applicable regulations;

(2) the bid submitted is the highest valid bid; and

(3) the amount of the bid has been determined to be adequate by the authorized officer.

Any bid submitted that does not conform to the requirements of the Final NOS and Final NOS Package, OCSLA, or other applicable statute or regulations, will be rejected and returned to the bidder. The U.S. Department of Justice and Federal Trade Commission will review the results of the lease sale for antitrust issues prior to the acceptance of bids and issuance of leases.

Bid Adequacy Review Procedures for Cook Inlet Sale 244

To ensure that the U.S. Government receives a fair return for the issuance of leases from this lease sale, high bids will be evaluated in accordance with BOEM's bid adequacy procedures, which are available at http://www.boem.gov/Bid-Adequacy-Procedures/.

Lease Award

BOEM requires each bidder awarded a lease to:

(1) Execute all copies of the lease (Form BOEM-2005 (February 2017), as amended);

(2) pay by EFT the balance of the bonus bid amount and the first year's rental for each lease issued in accordance with the requirements of 30 CFR 1218.155, 30 CFR 556.520(a)(2) and 30 CFR 556.520(a)(3); and

(3) satisfy the bonding requirements of 30 CFR part 556, subpart I, as amended.

ONRR requests that bidders use only one transaction for payment of the balance of the bonus bid amount and first year's rental.

XI. Delay of Sale

The BOEM Alaska OCS RD has the discretion to change any date, time, and/or location specified in the Final NOS Package in case of an event the BOEM Alaska OCS RD deems may interfere with the carrying out of a fair and orderly lease sale process. Such events could include, but are not limited to, natural disasters (e.g., earthquakes or floods), wars, riots, acts of terrorism, fires, strikes, civil disorder, or other events of a similar nature. In case of such events, bidders should call (907) 334-5200, or access the BOEM Web site at http://www.boem.gov for information regarding any changes.

Dated: May 18, 2017.
Walter D. Cruickshank,
Acting Director, Bureau of Ocean Energy Management.

[FR Doc. 2017-10509 Filed 5-19-17; 8:45 am]

BILLING CODE 4310-MR-P